DEPARTMENT OF LABOR

Office of the Secretary

Agency Information Collection Activities; Submission for OMB Review; Comment Request; Institutional Analysis of American Job Centers Study; Correction

ACTION: Notice; Correction.

SUMMARY: The Department of Labor published a document in the Federal Register of December 28, 2015, inviting public comments on the Institutional Analysis of American Job Centers Study Information Collection Request (80 FR 80814). The document contained an incorrect date.

FOR FURTHER INFORMATION CONTACT: Contact Michel Smyth by telephone at 202-693-4129 (this is not a toll-free number) or by email to DOL_PRA_PUBLIC@dol.gov.

Correction

In the Federal Register of December 28, 2015, in FR Doc. 2015-32625, on page 80814, (80 FR 80814) in the first column, correct the DATES caption to read:

DATES: The OMB will consider all written comments that agency receives on or before February 11, 2016.

Dated: January 21, 2016.
Michel Smyth,
Departmental Clearance Officer.

[FR Doc. 2016-01898 Filed 2-2-16; 8:45 am]

BILLING CODE 4510-04-P